DEPARTMENT OF ENERGY

Federal Energy Regulatory Commission

Notice Concerning Submissions Made During Federal Government Closures

Take notice that the Commission is adopting the following practice with respect to submittals to the Commission during Federal government closures.

Effective December 22, 2014, the Commission will not accept submittals—either in electronic format submitted through “FERC Online” (including through eFiling and eTariff) or in hardcopy format—when the Commission is closed at the direction of the Office of Personnel Management or Presidential Executive Order closing Federal government offices in Washington, DC.¹

¹ On December 6, 2014, President Barack Obama issued an Executive Order closing executive departments and agencies of the government on Friday, December 26, 2014. The above-described practice will be in effect that day.

At such time as the Commission reopens, it will again accept submittals both in electronic format through “FERC Online” (including through eFiling and eTariff) and in hardcopy format.

Dated: December 22, 2014.
Kimberly D. Bose,
Secretary.

[FR Doc. 2014-30583 Filed 12-30-14; 8:45 am]

BILLING CODE 6717-01-P